DEPARTMENT OF HEALTH AND HUMAN SERVICES

National Institutes of Health

Office of The Director, National Institutes of Health; Notice of Meeting

Pursuant to section 10(a) of the Federal Advisory Committee Act, as amended, notice is hereby given of a meeting of the Office of AIDS Research Advisory Council.

The meeting will be open to the public via NIH videocast. The URL link to this meeting is: https://videocast.nih.gov/watch=37775. Individuals who plan to attend the virtual meeting and need special assistance, such as sign language interpretation or other reasonable accommodations, should notify the Contact Person listed below in advance of the meeting.

Name of Committee: Office of AIDS Research Advisory Council.

Date: June 25, 2020.

Time: 12:30 p.m. to 4:15 p.m.

Agenda: OAR Director's Report; updates from the DHHS HIV/AIDS Treatment and Prevention Guidelines; Discussion regarding research opportunities and priorities for COVID19 and HIV; discussion with OARAC members regarding the impact of the pandemic and Research Recovery Planning and Efforts at their institutions; and public comment.

Place: National Institutes of Health, 5601 Fishers Lane, Rockville, MD 20892, (Virtual Meeting).

Contact Person: Mary T. Glenshaw, Ph.D., MPH, Senior Science Advisor, OD/DPCPSI/OAR, 5601 Fishers Lane, Room 2E40, Rockville, MD 20850, mary.glenshaw@nih.gov.

Any interested person may file written comments within 15 days before the meeting with the committee by forwarding the statement to the Contact Person listed on this notice. The statement should include the name, address, email address, telephone number and when applicable, the business or professional affiliation of the interested person.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: May 22, 2020.
Tyeshia M. Roberson,
Program Analyst, Office of Federal Advisory Committee Policy.

[FR Doc. 2020-11554 Filed 5-28-20; 8:45 am]

BILLING CODE 4140-01-P